COMMITTEE FOR PURCHASE FROM PEOPLE WHO ARE BLIND OR SEVERELY DISABLED

Procurement List; Deletions

AGENCY: Committee for Purchase from People Who Are Blind or Severely Disabled.

ACTION: Deletions from the procurement list.

SUMMARY: This action deletes from the Procurement List a product and services previously furnished by such agencies.

EFFECTIVE DATE: October 17, 2004.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION:

Deletions

On March 24, April 30, and July 23, 2004, the Committee for Purchase from People Who Are Blind or Severely Disabled published notice (69 FR 15787, 23723, and 43970) of proposed deletions to the Procurement List.

After consideration of the relevant matter presented, the Committee has determined that the product and services listed below are no longer suitable for procurement by the Federal Government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the product and services to the Government.

3. There are no known regulatory alternatives which would accomplish the objectives of the Javits-Wagner-O'Day Act (41 U.S.C. 46-48c) in connection with the product and services deleted from the Procurement List.

End of Certification

Accordingly, the following product and services are deleted from the Procurement List:

Product

Product/NSN: Head Lantern,

6230-01-387-1399.

NPA: Easter Seals Greater Hartford Rehabilitation Center, Inc., Windsor, Connecticut.

Contract Activity: GSA, Southwest Supply Center, Fort Worth, Texas.

Services

Service Type/Location: Base Supply Center, U.S. Coast Guard Integrated Support Command, Kodiak, Alaska.

NPA: Raleigh Lions Clinic for the Blind, Inc., Raleigh, North Carolina.

Contract Activity: U.S. Coast Guard Integrated Support Command, Kodiak, Alaska.

Service Type/Location: Janitorial/Custodial, U.S. Federal Building and Post Office, Idabel, Oklahoma.

NPA: None currently authorized.

Contract Activity: General Services Administration.

Service Type/Location: Janitorial/Custodial, U.S. Federal Building, Russellville, Arkansas.

NPA: None currently authorized.

Contract Activity: General Services Administration.

Service Type/Location: Janitorial/Custodial, U.S. Post Office, Courthouse and Social Security Administration, Hot Springs, Arkansas.

NPA: Non currently authorized.

Contract Activity: General Services Administration.

Sheryl D. Kennerly,
Director, Information Management.

[FR Doc. 04-21000 Filed 9-16-04; 8:45 am]

BILLING CODE 6353-01-P